DEPARTMENT OF TRANSPORTATION

Federal Aviation Administration

14 CFR Part 73

[Docket No. FAA-2015-2193; Airspace Docket No. 15-AWP-8]

Establishment of Restricted Area R-2507W; Chocolate Mountains, CA

AGENCY: Federal Aviation Administration (FAA), DOT.

ACTION: Final rule.

SUMMARY: This action establishes restricted area R-2507W, Chocolate Mountains, CA, to support training activities that involve the use of advanced weapons systems. This action ensures realistic United States Marine Corps (USMC) training on live fire and non-live fire aviation activities such as Basic Ordinance Delivery, Close Air Support, Air-to-Air Gunnery, Laser Ranging and Designating, and Air Strikes. Restricted area R-2507W will allow the USMC to enhance training and safety requirements in order to maintain, train, and equip combat-ready military forces.

DATES: Effective date 0901 UTC, June 22, 2017.

FOR FURTHER INFORMATION CONTACT: Kenneth Ready, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it establishes the restricted area airspace at Chocolate Mountains, CA, to accommodate essential USMC training requirements and ensure the safety of aircraft otherwise permitted to overfly the location established for USMC training.

History

The FAA published in the Federal Register a notice of proposed rulemaking (NPRM) (80 FR 42761, July 20, 2015), Docket No. FAA-2015-2193, to establish restricted area R-2507W to support hazardous training activities conducted within the Chocolate Mountain Aerial Gunnery Range (CMAGR), special use airspace (SUA) complex.

Interested parties were invited to participate in this rulemaking effort by submitting written comments on the proposal. One comment from the Aircraft Owners and Pilots Association (AOPA) was received.

Discussion of Comments

In their response to the NPRM, AOPA raised several substantive issues. AOPA contended the proposed airspace design would have a negative impact on general aviation aircraft highlighting three main areas of concern: Proximity to Salton Sea National Wildlife Refuge; impact on instrument approach into Brawley Municipal Airport (BWC); and impact on instrument approach into Jacqueline Cochran Regional Airport (TRM).

Having considered the issues provided by AOPA, the FAA offers the following responses.

Proximity to Salton Sea National Wildlife Refuge

AOPA indicated that pilots would prefer additional buffer space between aircraft and the refuge, but R-2057W reduces that margin on the northern coast of the Salton Sea National Wildlife Refuge.

The FAA acknowledges the Salton Sea National Wildlife Refuge is located in close proximity to R-2507W and that pilots are encouraged to avoid the refuge, if practical, as Advisory Circular 91-36D states under the paragraph `Voluntary Practices.' As alluded to by AOPA's comment, navigating along the northern shoreline of the Salton Sea is a common occurrence when operating in the area. The closest point between the proposed airspace and the refuge is approximately 3.7 nautical miles. This distance provides ample maneuver space in a VFR environment for general aviation pilots to avoid both the proposed R-2507W and the wildlife refuge. Additionally, it is important to note that the recognizable geographic boundary of the range from the air is the canal that borders the range. In order to ensure safety, the airspace utilizes that geographic border to visually assist general aviation in identifying the outer edge of the restricted area. Moreover, the R-2507W airspace overlays Controlled Fire Areas which are established over the Chocolate Mountain Aerial Gunner Range. There are no records at Marine Corps Air Station, Yuma, of having to take any actions to put the Controlled Fire Areas in cease-fire status due to general aviation activity in/around the underlying ranges. For these reasons, the FAA disagrees that additional clearance is necessary.

Impact on Instrument Approach Into Brawley Municipal Airport (BWC)

AOPA also expressed concern that an aircraft inbound to BWC via the VOR/DME B approach originating from the Thermal VORTAC must fly 35 miles to SECAN intersection which is found by cross referencing with the Imperial VORTAC. AOPA suggested that pilot solely utilizing VOR guidance could stray north near the restricted area.

The FAA acknowledges that a pilot flying the VOR/DME B approach procedure into BWC and navigating solely off of one VOR has cockpit workload to consider. However, the FAA considers the cockpit workload a factor at the intersection due to switching from VOR to VOR for guidance on when to make the turn does not present any safety concern associated with the establishment of R-2507W. The pilot's potential to stray beyond the intersection or missing the turn would take the pilot away from the restricted area rather than closer to it. The FAA recognizes ample maneuverability room to complete the initial inbound radial of the approach to the SECAN intersection without being in jeopardy of straying into the new R-2507W.

Impact on Instrument Approach Into Jacqueline Cochran Regional Airport (TRM)

AOPA is concerned the RNAV GPS runway 35 approach will lose safe distance off of the SHADI intersection from the restricted airspace. The FAA concurs with the comment that the feeder route of SHADI intersection to the COSUK intersection (which is an initial approach fix) would be reduced to an unacceptable distance. Therefore, the FAA has reduced the boundary of the northwest corner of R-2507W to provide sufficient protected airspace from the RNAV (GPS) runway 35 approach.

Differences From the NPRM

Subsequent to publication of the NPRM, in response to a comment from AOPA, the FAA identified a geographic lat./long. coordinate which was adjusted into two geographic lat./long. coordinates to ensure ample separation from the TRM RNAV GPS runway 35 approach feeder route off of SHADI intersection, which is an established approach procedure. The following restricted area updates are incorporated in this action.

The geographical lat./long. coordinate for the point located in the northwest corner of R-2507W has been removed and two new points were established.

The Rule

The FAA is amending title 14 Code of Federal Regulations (14 CFR) part 73 to establish a new restricted area R-2507W at the Chocolate Mountain Aerial Gunnery Range, CA. The FAA is also incorporating the restricted area updates noted in the Differences from the NPRM section. The FAA is taking this action to ensure realistic USMC training on live fire and non-live fire aviation activities such as Basic Ordinance Delivery, Close Air Support, Air-to-Air Gunnery, Laser Ranging and Designating, and Air Strikes. The changes from what was proposed in the NPRM are as follows:

R-2507W: The geographic coordinate proposed as “lat. 33°29′25″ N., long. 115°46′08″ W.” in the boundaries description is deleted and replaced by two points identified as “lat. 33°29′11″ N., long. 115°45′49″ W.” and “lat. 33°29′36″ N., long. 115°45′36″ W.” The rest of the legal description of R-2507W is unchanged from the proposal.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of establishing restricted area R-2507W, Chocolate Mountain, CA, to support USMC training activities that involve the use of advanced weapons systems, qualified for FAA's environmental impact review and FAA's adoption of the airspace use portion of the USMC's Final Environmental Assessment (FEA). In accordance with the National Environmental Policy Act (NEPA), its implementing regulations at 40 CFR parts 1500 through 1508, FAA Orders 1050.1F Environmental Impacts: Policies and Procedures, and 7400.2K Procedures for Handling Airspace Matters, FAA, as a cooperating agency for this SUA action, conducted an independent environmental impact review of the airspace use portion of the USMC's Air Station Yuma FEA for the Establishment of Special Use Airspace Restricted Area R-2507W, Chocolate Mountain Aerial Gunnery Range, Imperial and Riverside Counties, California (June 2014). Based on its review, the FAA has determined that the action that is the subject of this rule does not present any potential for significant impacts to the human environment. The FAA's Adoption EA and FONSI-ROD are included in the docket for this rulemaking.

List of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(f), 106(g), 40103, 40113, 40120; E.O. 10854, 24 FR 9565, 3 CFR, 1959-1963 Comp., p. 389.

§ 73.25 California [Amended]

2. Section 73.25 is amended as follows:

* * * * *

R-2507W West Chocolate Mountains, CA [New]

Boundaries—Beginning at lat. 33°14′00″ N., long. 115°22′33″ W.; to lat. 33°13′14″ N., long. 115°23′17″ W.; to lat. 33°13′58″ N., long. 115°24′26″ W.; to lat. 33°14′22″ N., long. 115°25′29″ W.; to lat. 33°15′40″ N., long. 115°27′36″ W.; to lat. 33°17′28″ N., long. 115°29′42″ W.; to lat. 33°19′17″ N., long. 115°32′13″ W.; to lat. 33°21′11″ N., long. 115°34′39″ W.; to lat. 33°22′58″ N., long. 115°38′19″ W.; to lat. 33°27′26″ N., long. 115°43′30″ W.; to lat. 33°29′11″ N., long. 115°45′49″ W.; to lat. 33°29′36″ N., long. 115°45′36″ W.; to lat. 33°31′09″ N., long. 115°41′12″ W.; to lat. 33°32′50″ N., long. 115°37′37″ W.; to lat. 33°32′40″ N., long. 115°33′53″ W.; to lat. 33°28′30″ N., long. 115°42′13″ W.; to lat. 33°23′40″ N., long. 115°33′23″ W.; to lat. 33°21′30″ N., long. 115°32′58″ W.; thence to the point of beginning.

Designated altitudes. Surface to FL 230.

Time of designation. Continuous.

Controlling agency. FAA, Los Angeles Air Route Traffic Control Center (ARTCC).

Using agency. USMC, Commanding Officer, Marine Corps Air Station (MCAS) Yuma, AZ.

* * * * *

Issued in Washington, DC, on April 10, 2017.
Rodger A. Dean Jr.,
Manager, Airspace Policy Group.

[FR Doc. 2017-07573 Filed 4-13-17; 8:45 am]

BILLING CODE 4910-13-P